FEDERAL COMMUNICATIONS COMMISSION

[DA 11-1493]

Consumer Advisory Committee Meeting

AGENCY: Federal Communications Commission.

ACTION: Notice.

SUMMARY: The Commission announces the next meeting date and agenda of its Consumer Advisory Committee (Committee). The purpose of the Committee is to make recommendations to the Commission regarding consumer issues within the jurisdiction of the Commission and to facilitate the participation of all consumers in proceedings before the Commission.

DATES: The meeting of the Committee will take place on September 27, 2011, 2 p.m. to 3:30 p.m., at the headquarters of the Federal Communications Commission (FCC).

ADDRESSES: Federal Communications Commission, 445 12th Street, SW., Room 6-B516 (6th Floor South Conference Room), Washington, DC 20554.

FOR FURTHER INFORMATION CONTACT: Scott Marshall, Consumer and Governmental Affairs Bureau, (202) 418-2809 (voice), (202) 418-0179 (TTY), or e-mail Scott.Marshal@fcc.gov.

SUPPLEMENTARY INFORMATION: This is a summary of the Commission's Public Notice DA 11-1493, released on September 6, 2011, announcing the agenda, date and time of the Committee's next meeting. At its September 27, 2011 meeting, the Committee will focus on administrative matters concerning the operation of its working groups including a discussion of possible issues to be addressed by the Committee at future meetings. It is anticipated that a majority of Committee members will participate via teleconference. Meetings are open to the public on site, and a limited amount of time on the agenda will be available for oral comments from the public attending in person.

The Committee is organized under, and operates in accordance with, the provisions of the Federal Advisory Committee Act, 5 U.S.C., App. 2 (1988). A notice of each meeting will be published in the Federal Register at least fifteen (15) days in advance of the meeting. Records will be maintained of each meeting and made available for public inspection. Members of the public may send written comments to: Scott Marshall, Designated Federal Officer of the Committee. scott.marshall@fcc.gov.

The meeting site is fully accessible to people using wheelchairs or other mobility aids. Sign language interpreters, open captioning, assistive listening devices, and Braille copies of the agenda and handouts will be provided on site.

Other reasonable accommodations for people with disabilities are available upon request. The request should include a detailed description of the accommodation needed and contact information. Please provide as much advance notice as possible; last minute requests will be accepted, but may be impossible to fill. Send an e-mail to fcc504@fcc.gov or call the Consumer and Governmental Affairs Bureau at 202-418-0530 (voice), 202-418-0432 (TTY).

Federal Communications Commission.
Joel Gurin,
Chief, Consumer and Governmental Affairs Bureau.

[FR Doc. 2011-23268 Filed 9-12-11; 8:45 am]

BILLING CODE 6712-01-P